DEPARTMENT OF COMMERCE

National Oceanic and Atmospheric Administration

[I.D. 081800C]

Individual Fishing Quota (IFQ) Prior Notice of Landing Report

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 23, 2000.

ADDRESSES: Direct all written comments to Linda Engelmeier, Departmental Forms Clearance Officer, Department of Commerce, Room 6086, 14th and Constitution Avenue NW, Washington DC 20230 (or via Internet at lengelme@doc.gov).

FOR FURTHER INFORMATION CONTACT: Requests for additional information or copies of the information collection instrument(s) and instructions should be directed to Patsy A. Bearden, National Marine Fisheries Service, Alaska Region, P.O. Box 21668, Juneau, Alaska 99802, Telephone number 907-586-7008.

SUPPLEMENTARY INFORMATION:

I. Abstract

The National Marine Fisheries Service is requesting comments on a revision to a collection of information that supports the Individual Fishing Quota (IFQ) Program for fixed-gear Pacific halibut and sablefish fisheries off Alaska. Vessel operators would be required to report IFQ regulatory area on the IFQ Prior Notice of Landing (PNOL) report in addition to the currently required information about the anticipated IFQ offload.

II. Method of Collection

An IFQ vessel operator provides the information by telephone to a NOAA Enforcement Officer or U.S. Coast Guard Officer prior to IFQ offloading.

III. Data

OMB Number: 0648-0272.

Form Number: None.

Type of Review: Regular submission.

Affected Public: Business and other for-profit organizations.

Estimated Number of Respondents: 4,700.

Estimated Time Per Response: 8 seconds for added data element.

Estimated Total Annual Burden Hours: 33.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 17, 2000.
Madeleine Clayton,
Management Analyst, Office of the Chief Information Officer.

[FR Doc. 00-21682 Filed 8-23-00; 8:45 am]

BILLING CODE 3510-22-F